DEPARTMENT OF COMMERCE

National Institute of Standards and Technology

Announcement of U.S. Conformity Assessment Body Training Workshop

AGENCY: National Institute of Standards and Technology, Department of Commerce.

ACTION: Notice of workshop.

SUMMARY: The National Institute of Standards and Technology (NIST) invites interested parties to attend a two-day Conformity Assessment Body (CAB) training workshop on the European Union (EU) Radio and Telecommunications Terminal Equipment (R&TTE) Directive and related issues. NIST, as the Designating Authority under the Sectoral Annex for Telecommunication Equipment of the US-EU Mutual Recognition Agreement (MRA), is sponsoring this workshop in order to provide training and educational outreach for U.S. CABs. Personnel from the European Commission and an EU Notified Body (NB) will conduct this workshop. The workshop is aimed at providing information for current and potential CABs, assessors, manufacturers, and other interested parties on compliance with the EU R&TTE Directive. There is a fee to attend the Workshop. All attendees must register no later than March 27, 2002. Attendance will be limited to the first 80 registered participants.

DATES: The U.S. CAB Training Workshop will be held April 10-11, 2002. All sessions will be held from 8:30 a.m. to 5:30 p.m.

ADDRESSES: U.S. CAB Training Workshop sessions will be held at the Hyatt Regency Crystal City at Reagan National Airport, 2799 Jefferson Davis Highway, Arlington, Virginia 22202.

FOR REGISTRATION INFORMATION CONTACT: Kim Snouffer at (301) 975-2776, kimberly.snouffer@nist.gov. You may register for the workshop electronically at http://www.nist.gov/conferences. If you do not wish to register electronically, you can print out the electronic form and fax it to (301) 948-2067. Please pre-register by no later than March 27, 2002. You may also mail a copy of the electronic form, by March 27, 2002, to: NIST Office of the Comptroller, 100 Bureau Drive, Stop 3732, Gaithersburg, MD 20899-3732.

FOR TECHNICAL INFORMATION CONTACT: Mary Jo DiBernardo at 301 975-5503 or maryjo.dibernardo@nist.gov.

SUPPLEMENTARY INFORMATION: NIST, as the Designating Authority under the Sectoral Annex for Telecommunication Equipment of the US-EU MRA, is sponsoring this workshop in order to provide training and educational outreach for U.S. CABs. The workshop is aimed at providing information to current and potential CABs, assessors, manufacturers, and other interested parties on requirements of the EU R&TTE Directive. The first half-day will be devoted to an introduction to the R&TTE Directive and its requirements. This will be followed by a 1½ day session focusing on issues relating to operating aspects, common problems, solutions, and experiences encountered by CABs/NBs under the R&TTE Directive. There is a $225 fee to attend the Workshop. All attendees must register no later than March 27, 2002. Attendance will be limited to the first 80 registered participants.

Workshop attendees are assumed to have familiarity with the US-EU Mutual Recognition Agreement and the R&TTE Directive. The text of these documents can be accessed at http://ts.nist.gov/ts/htdocs/210/216/mra.htm and http://ts.nist.gov/ts/htdocs/210/216/mra-relatedlinks.htm respectively. Information on becoming a U.S. CAB for radio and telecommunications terminal equipment under the US-EU MRA is posted on NIST Web site at http://ts.nist.gov/ts/htdocs/210/216/mra-eu-telecom.htm.

Dated: February 25, 2002.
Karen H. Brown,
Deputy Director.

[FR Doc. 02-4903 Filed 2-28-02; 8:45 am]

BILLING CODE 3510-13-P